DEPARTMENT OF HEALTH AND HUMAN SERVICES

Centers for Disease Control and Prevention

[30Day-10-09CO]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Increasing Adoption of CROPS by Farmers and Manufactures, New—National Institute for Occupational Safety and Health (NIOSH), Centers for Disease Control and Prevention (CDC).

Background and Brief Description

There was an average of 200 tractor-related fatalities annually between 1992 and 2005 in the US, with tractor overturns accounting for 1,412 of these deaths. The majority could have been prevented with the use of a rollover protective structure (ROPS). It is estimated that about half of the 4.8 million tractors in the United States currently do not have ROPS installed. Earlier research indicated that adoption of retrofit ROPS technology for older tractors is impeded by the costs, complexity of this modification, usability and storage of the tractor after the retrofitting (installation), of a ROPS. To overcome these barriers, NIOSH designed a prototype of a cost-effective roll over protective structure (CROPS). Projected retrofit costs for CROPS are $800, compared to $1,200-$2,500 for ROPS; and the installation complexity is significantly reduced. NIOSH has CROPS prototype designs for five tractors: Ford 3000 series, Ford 4000 series, Ford 8N, Ford 4600 and Massey-Ferguson 135. However, this technology has not been transferred to the agricultural workplace, suggesting that the barriers to adoption and implementation are much more complex than previously believed.

With the assistance of State partners, the project will identify the study population—farmers in two selected States who use tractors for which a CROPS prototype has been developed by NIOSH. From this group of farmers a subset of farmers from the study population will be selected (18 in each State for a total of 36) to receive a CROPS at no charge. Each farmer will be asked to install the CROPS and provide an initial assessment of their perception of the utility and value of the device and allow others to observe the retrofit process. New York and Virginia were selected as States because of their high number of tractor roll over fatalities and established relationships with NIOSH, its partners, and access to farming communities. The State partners will schedule and arrange 18 demonstration projects within their respective States for a total of 36 tractor retrofit demonstrations. Attendance at these events is anticipated to be demonstrators, observers, community leaders and fabricators and is strictly voluntary. It is anticipated to have a minimum of 10 attendees identified and secured for each of the 36 demonstration projects. These attendees will be invited to observe installation of CROPS in the field and queried on their perception of the utility and value of the design. This will help identify barriers from and approaches for stimulating farmers to retrofit their tractors with Cost-Effective Roll-Over Protection Structures (CROPS) using stakeholder input. The surveys are expected to take about 15 minutes to complete.

There are no costs to the respondents other than their time. The total estimated annual burden hours are 753.

Estimated Annualized Burden Hours
Type of respondents | Number of respondents | Number of responses per respondent | Average burden per response (in hours)
Demonstrators | 30 | 1 | 15/60
Demonstrators | 30 | 1 | 15/60
Demonstrators | 30 | 1 | 15/60
Demonstrators | 30 | 1 | 3
Observers | 170 | 1 | 15/60
Observers | 170 | 1 | 15/60
Observers | 170 | 1 | 15/60
Observers | 170 | 1 | 3

Dated: March 4, 2010.
Maryam Daneshvar,
Acting Reports Clearance Officer, Centers for Disease Control and Prevention.

[FR Doc. 2010-5156 Filed 3-9-10; 8:45 am]

BILLING CODE 4163-18-P